ENVIRONMENTAL PROTECTION AGENCY

[FRL-6713-3]

Adequacy Status of Motor Vehicle Budgets in Submitted State Implementation Plans for Transportation Conformity Purposes; District of Columbia, Maryland, Virginia; Revised Phase II Plans for the Metropolitan Washington D.C. Ozone Nonattainment Area

AGENCY: Environmental Protection Agency (EPA).

ACTION: Notice of adequacy status.

SUMMARY: EPA is announcing that the revised motor vehicle emissions budgets (budgets) contained in the revised Phase II Plans for the Metropolitan Washington D.C. Ozone Nonattainment Area submitted by the Maryland Department of the Environment, Virginia Department of Environmental Quality and the District of Columbia Environmental Regulation Administration as State Implementation Plans (SIPs) revisions are adequate for transportation conformity purposes. The revised Phase II Plans were submitted to EPA on February 9, 2000 (VA), February 14, 2000 (MD) and on February 16, 2000 (DC). The revised Phase II SIPs consist of the revised attainment demonstration (attainment plan) for the Metropolitan Washington D.C. Ozone Nonattainment Area. EPA has found the attainment budgets in the submitted revised Phase II SIPs for the Metropolitan Washington D.C. area adequate for transportation conformity purposes.

DATES: The finding that the budgets of the revised attainment plan are adequate were made in letters dated May 31, 2000 from EPA Region III to the Maryland Department of the Environment, Virginia Department of Environmental Quality and the District of Columbia Environmental Regulation Administration are effective on June 23, 2000.

FOR FURTHER INFORMATION CONTACT: Paul T. Wentworth, P.E., U.S. EPA, Region III, 1650 Arch Street, Philadelphia, PA 19103 at (215) 814-2183 or by e-mail at: wentworth.paul@epa.gov .

SUPPLEMENTARY INFORMATION: Throughout this document “we, us,” or “our” refer to EPA. The word “budgets” refers to the motor vehicle emission budgets for volatile organic compounds (VOCs) and nitrogen oxides (NOX). The word “SIP” in this document refers to the revised Phase II SIPs submitted on February 9, 2000, February 14, 2000 and February 16, 2000 by Virginia, Maryland and the District, respectively. The revised Phase II SIPs include the revised attainment plan for the one-hour National Ambient Air Quality Standard (NAAQS) for ozone for the Metropolitan Washington D.C. Nonattainment Area.

On March 2, 1999, the D.C. Circuit Court ruled that budgets contained in submitted SIPs cannot be used for conformity determinations until EPA has affirmatively found them adequate. By transmittal letters dated as shown below, the Virginia Department of Environmental Quality, the Maryland Department of the Environment, and the Washington D.C. Department of Health, Air Quality Division each formally submitted revisions to the attainment plan consisting of changes to the budgets for the Metropolitan Washington D.C. Ozone Nonattainment Area. The revised Phase II SIPs submittal dates are:

Virginia—February 9, 2000

Maryland—February 14, 2000

Washington D.C.—February 16, 2000

On March 2, 2000, we posted the availability of the revised Phase II SIPs and their budgets on our conformity website for the purpose of soliciting public comment on the adequacy of the budgets. The comment period closed on April 3, 2000.

On May 31, 2000, EPA Region III sent letters to the Virginia Department of Environmental Quality, the Maryland Department of the Environment, and the Washington D.C. Department of Health, Air Quality Division which constituted final Agency actions on the adequacy of the budgets contained in the revised Phase II SIPs. Those actions were EPA's finding that the mobile budgets contained in the revised attainment plan are adequate for transportation conformity purposes. As a result of our finding, the attainment budgets contained in the submitted revised Phase II SIPs for the Metropolitan Washington D.C. Nonattainment Area may be used for future conformity determinations. This is an announcement of an adequacy finding that we already made on May 31, 2000. The effective date of this finding is June 23, 2000. This finding will also be announced on EPA's website: http://www.epa.gov/oms/traq (once there, click on the “Conformity” button, then look for “Adequacy Review of Submissions for Conformity”). The website will contain a detailed analysis of our adequacy finding and our responses to the public comments.

Transportation conformity is required by section 176 of the Clean Air Act. EPA's conformity rule requires that transportation plans, programs, and projects conform to SIPs and establishes the criteria and procedures for determining whether or not they do so. Conformity to a SIP means that transportation activities will not produce new air quality violations, worsen existing violations, or delay timely attainment of the NAAQS. The criteria by which we determine whether SIP's budgets are adequate for conformity purposes are outlined in 40 CFR 93.118(e)(4).

Please note that an adequacy finding of the mobile budgets of a submitted SIP is separate from EPA's completeness determination on that SIP, and separate from EPA's final action as to whether or not the SIP is approvable. Even if we find budgets adequate, the SIP could later be disapproved. We describe our process for determining the adequacy of submitted SIP budgets in guidance memorandum dated May 14, 1999 and titled “Conformity Guidance on Implementation of March 2, 1999 Conformity Court Decision”. We followed this guidance in making this adequacy finding for the budgets contained in the revised Phase II SIPs submitted on February 9, 2000, February 14, 2000 and February 16, 2000 by Virginia, Maryland, and the District, respectively. You may obtain a copy of this guidance from EPA's conformity web site: http://www.epa.gov/oms/traq (once there, click on the “Conformity” button) or by calling the contact name listed in FOR FURTHER INFORMATION CONTACT section of this notice.

Authority: 42 U.S.C. 7401-7671q.

Dated: June 1, 2000.
Bradley M. Campbell,
Regional Administrator, Region III.

[FR Doc. 00-14599 Filed 6-7-00; 8:45 am]

BILLING CODE 6560-50-U